DEPARTMENT OF JUSTICE

[AAG/A Order No. 275-2002]

Privacy Act of 1974; Computer Matching Agreement

AGENCY: Department of Justice.

ACTION: Notice—computer matching between the Department of Justice (DOJ) and the United States Postal Service (USPS).

SUMMARY: In accordance with the Privacy Act of 1974 (5 U.S.C. 552a), as amended by the Computer Matching and Privacy Protection Act of 1988 (Public Law 100-503), Office of Management and Budget (OMB) Guidelines on the Conduct of Matching Programs (54 FR 25818, June 19, 1989), OMB Bulletin 89-22, “Instructions of Reporting Computer Matching Programs to the Office of Management and Budget (OMB), Congress and the Public,” and OMB Circular No. A-130, Revised February 8, 1996, “Management of Federal Information Resources,” the Department of Justice is issuing a public notice of its intent to conduct a computer matching program with the USPS. Under this matching program, entitled USPS Employees Who Are Federal Delinquent Debtors, the USPS will provide information to the DOJ relating to current or former USPS employees whose salary or other Federal benefits are subject to offset to satisfy delinquent debts owed to Federal agencies.

DATES: Effective date: The matching program will become effective 40 days after a copy of the agreement, as approved by the Data Integrity Board of each agency, is sent to Congress and the Office of Management and Budget, or 30 days after publication of this notice in the Federal Register, whichever is later. The matching program will continue for 18 months after the effective date and may be extended for an additional 12 months, if the conditions specified in 5 U.S.C. 552a(o)(2)(D) have been met.

Reporting: In accordance with Pub. L. 100-503, the Computer Matching and Privacy Protection Act of 1988, as amended, Office of Management and Budget Bulletin 89-22, “Instructions on Reporting Computer Matching Programs to the Office of Management and Budget (OMB), Congress and the Public” and Circular No. A-130, Revised February 8, 1996, “Management of Federal Information Resources”, copies of this notice and report are being provided to the Committee on Government Reform of the House of Representatives, the Committee on Governmental Affairs of the Senate, and the Office of Management and Budget.

Authority: This matching program is being conducted under the authority of the following statutes and regulations which authorize agencies to collect, or refer to other agencies for collection, delinquent debts owed to the United States and/or which specifically authorize collection by salary or other administrative offset to satisfy such debts: The Debt Collection Act of 1982 (Public Law 97-365), as amended by the Debt Collection Improvement Act (DCIA) of 1996 (Public Law 104-134, section 31001), which authorizes Federal agencies to offset a Federal employee's salary as a means of satisfying delinquent debts owed to the United States (5 U.S.C. 5514(a) and note).

Objectives To Be Met By the Matching Program: The purpose of this program is to provide DOJ with current information on individuals who (1) are delinquent in paying their debts to the United States government and (2) are current or former employees of the USPS, so that DOJ can pursue potential salary or administrative offsets.

Records To Be Matched: DOJ will provide records from the Debt Collection Offset Payment System, JUSTICE/JMD-009. This system of records contains information on almost 19,000 persons indebted to the United States who have allowed their debts to become delinquent and whose debts are in the DOJ data base for debts submitted to the Treasury Offset Program (TOP). DOJ records will be matched against records contained in USPS' Privacy Act System of Records: Finance Records—Payroll System, USPS 050.020, which contains records of about 800,000 employees.

Categories of Records/Individuals Involved: DOJ will submit the name and nine digit Social Security Number (SSN) of each delinquent debtor in DOJ's TOP data base USPS will compare the name and SSN for each debtor record submitted by DOJ to its data base of employee records. For each DOJ record that matches a USPS record, USPS will provide to the DOJ, the name, SSN, date of birth, home address, place of work and employee type (e.g., permanent or temporary).

Notice Procedures: For current and future USPS employees completing a PS Form 2591, Application for Employment, and various other personnel and benefit related forms, notice of possible computer matches involving their records is included in the Privacy Act Statement accompanying each form. DOJ provides direct notice to delinquent debtors that DOJ will seek to collect the delinquent debt via tax refund, salary, or administrative offset, and that DOJ will use computer matching to accomplish the offsets. Both USPS and DOJ have provided constructive notice to record subjects through the publication of system of records notices in the Federal Register for the records involved in this match that contain routine uses permitting disclosures for this matching program.

Address for Receipt of Public Comments or Inquiries: Interested persons are invited to submit written comments regarding this notice to Imogene McCleary, Deputy Director, Debt Collection Management, Justice Management Division, 325 7th Street NW., 2nd Floor South, Washington, DC 20530.

Dated: July 25, 2002.
Robert F. Diegelman,
Acting Assistant Attorney General for Administration.

[FR Doc. 02-17423 Filed 7-10-02; 8:45 am]

BILLING CODE 4410-CN-M